DEPARTMENT OF THE INTERIOR

Bureau of Indian Affairs

Submission of Information Collection to the Office of Management and Budget for Review Under the Paperwork Reduction Act

AGENCY: Bureau of Indian Affairs, Interior.

ACTION: Notice.

SUMMARY: This notice announces the Information Collection Request for the Johnson-O'Malley Program Annual Report Form has been submitted to the Office of Management and Budget for approval and renewal under provision of the Paperwork Reduction Act. You may submit comments on this information collection. An agency may not conduct or sponsor, and a person is not required to respond to a collection of information unless it displays a currently valid OMB control number. The OMB control number for this collection is 1076-0096.

DATES: Please submit your comments and suggestions on or before September 3, 2002.

ADDRESSES: Send comments or suggestions directly to the Office of Management and Budget, Office of Regulatory Affairs, Attention: Desk Officer for the Department of the Interior, 725 17th Street, NW., Washington, DC 20503.

Send a copy of your comments to Garry R. Martin, Bureau of Indian

Affairs, Office of Indian Education Programs, 1849 C Street, NW., MS 3512-MIB, Washington, DC 20240-0001. Telephone number 202-208-3478.

SUPPLEMENTARY INFORMATION:

I. Abstract

The information collection is necessary to assess the need for Johnson-O'Malley programs in accordance with 25 CFR Part 273, Subpart D, Section 273.50 Annual Reporting. A 60-day request for public comments on this information collection was published in the Federal Register on Monday, March 18, 2002 (67 FR 12043). No comments were received. Copies of the collection of information may be obtained by contacting the Bureau's clearance officer at 202-208-2574.

II. Request for Comments

Comments are invited on: (a) Whether the collection of information is necessary for the proper performance of the functions of the agency, including whether the information will have practical utility; (b) the accuracy of the agency's estimate of the burden (hours and cost) of the collection of information, including the validity of the methodology and assumptions used; (c) ways to enhance the quality, utility and clarity of the information to be collected; and (d) ways to minimize the burden of the collection of the information on the respondents, including through the use of automated collection techniques or other forms of information technology.

The Office of Management and Budget (OMB) has up to 60 days to approve or disapprove the information collection but may respond after 30 days; therefore, comments submitted in response to this notice should be submitted to OMB within 30 days in order to assure their maximum consideration.

All comments received are subject to public inspection. If you wish to have your name and address withheld from the public, you must state this prominently at the beginning of your comment. The requested information to be withheld will be honored to the extent of the law.

III. Data

Title: Johnson-O'Malley Program Annual Report Form.

OMB approval number: 1076-0096.

Frequency: Annually.

Description of respondents: Tribal, Tribal Organizations, School District education program administrators.

Estimated completion time: 5 hours.

Annual responses: 360.

Annual Burden hours: 1,800 hours.

Dated: May 24, 2002.
Neal A. McCaleb,
Assistant Secretary—Indian Affairs.

[FR Doc. 02-19471 Filed 8-1-02; 8:45 am]

BILLING CODE 4310-6W-P